ENVIRONMENTAL PROTECTION AGENCY

[EPA-HQ-OPP-2017-0720; FRL-12086-01-OCSPP]

Pesticide Registration Review; Draft Human Health and/or Ecological Risk Assessments for Several Pesticides; Notice of Availability

AGENCY: Environmental Protection Agency (EPA).

ACTION: Notice.

SUMMARY: The Environmental Protection Agency (EPA or Agency) is announcing the availability of and soliciting comment on the Agency's draft human health and/or ecological risk assessments for the registration review of clothianidin, imidacloprid, saflufenacil, and thiamethoxam.

DATES: Comments must be received on or before September 24, 2024.

ADDRESSES: Submit your comments, identified by the docket identification (ID) number for the specific pesticide of interest provided in table 1 of unit II., through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT:

For pesticide specific information: The Chemical Review Manager for the pesticide of interest identified in table 1 of unit II.

For general questions: Melanie Biscoe, Pesticide Re-Evaluation Division (7508P), Office of Pesticide Programs, Environmental Protection Agency, 1200 Pennsylvania Ave. NW, Washington, DC 20460-0001; telephone number: (202) 566-0701; email address: biscoe.melanie@epa.gov.

SUPPLEMENTARY INFORMATION:

I. Does this action apply to me?

This action is directed to the public in general and may be of interest to a wide range of stakeholders including environmental, human health, farm worker, and agricultural advocates; the chemical industry; pesticide users; and members of the public interested in the sale, distribution, or use of pesticides. Since others also may be interested, the Agency has not attempted to describe all the specific entities that may be affected by this action. If you have any questions regarding the applicability of this action to a particular entity, consult the Chemical Review Manager identified in table 1 of unit II.

II. What action is the Agency taking?

Pursuant to 40 CFR 155.53(c), this notice announces the availability of EPA's human health and/or ecological risk assessments for the pesticides shown in Table 1 and opens a 60-day public comment period on the risk assessments.

Table 1—Draft Risk Assessments Being Made Available for Public Comment
Registration review case name and No. | Docket ID No. | Chemical review manager and contact information
Clothianidin, Case Number 7620 | EPA-HQ-OPP-2011-0865 | Matthew Khan, khan.matthew@epa.gov, (202) 566-2212.
Imidacloprid, Case Number 7605 | EPA-HQ-OPP-2008-0844 | Matthew Khan, khan.matthew@epa.gov, (202) 566-2212.
Saflufenacil, Case Number 7278 | EPA-HQ-OPP-2019-0524 | Jonathan Williams, williams.jonathanr@epa.gov, (202) 566-2240.
Thiamethoxam, Case Number 7614 | EPA-HQ-OPP-2011-0581 | Matthew Khan, khan.matthew@epa.gov, (202) 566-2212.

III. What is the Agency's authority for taking this action?

EPA is conducting its registration review of the chemicals listed in table 1 of unit I pursuant to the Federal Insecticide, Fungicide, and Rodenticide Act (FIFRA) section 3(g) (7 U.S.C. 136(g)) and the Procedural Regulations for Registration Review at 40 CFR part 155, subpart C. FIFRA section 3(g) provides, among other things, that pesticide registrations are to be reviewed every 15 years. Consistent with 40 CFR 155.57, in its final registration review decision, EPA will ultimately determine whether a pesticide continues to meet the registration standard in FIFRA section 3(c)(5) (7 U.S.C. 136a(c)(5)).

As part of the registration review process, the Agency has completed draft human health and/or ecological risk assessments for all pesticides listed in table 1 of unit I. Pursuant to 40 CFR 155.53(c), EPA generally provides for at least a 30-day public comment period on draft human health and/or ecological risk assessments during registration review. This comment period is intended to provide an opportunity for public input on the Agency's assessment of the human health and/or ecological risks posed by use of these pesticides.

IV. What should I consider as I prepare a comment for EPA?

1. Submitting CBI. Do not submit CBI to EPA through email or https://www.regulations.gov. If you wish to include CBI in your comment, please follow the applicable instructions at https://www.epa.gov/dockets/commenting-epa-dockets#rules and clearly mark the information that you claim to be CBI. Information so marked will not be disclosed except in accordance with procedures set forth in 40 CFR part 2.

2. Tips for Preparing Your Comments. When preparing and submitting your comments, see the commenting tips at https://www.epa.gov/dockets/commenting-epa-dockets.

3. Environmental Justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

4. Information Submission Requirements. Anyone may submit data or information in response to this document. To be considered during a pesticide's registration review, the submitted data or information must meet the following requirements:

• To ensure that EPA will consider data or information submitted, interested persons must submit the data or information during the comment period. However, the Agency may, at its discretion, consider data or information submitted at a later date.

• The data or information submitted must be presented in a legible and useable form. For example, an English translation must accompany any material that is not in English, and a written transcript must accompany any information submitted as an audio graphic or videographic record. Written material may be submitted in paper or electronic form.

• Submitters must clearly identify the source of any submitted data or information.

• Submitters may request the Agency to reconsider data or information that the Agency rejected in a previous review. However, submitters must explain why they believe the Agency should reconsider the data or information in the pesticide's registration review.

All comments should be submitted using the methods in ADDRESSES and must be received by the EPA on or before the closing date. The Agency will consider all comments received during the public comment period and make changes, as appropriate, to a draft human health and/or ecological risk assessment. As appropriate, EPA may then issue a revised risk assessment, explain any changes to the draft risk assessment, and respond to comments.

Authority: 7 U.S.C. 136 et seq.

Dated: July 23, 2024.
Jean Overstreet,
Director, Pesticide Re-evaluation Division, Office of Pesticide Programs.

[FR Doc. 2024-16511 Filed 7-25-24; 8:45 am]

BILLING CODE 6560-50-P